ENVIRONMENTAL PROTECTION AGENCY

40 CFR Part 52

[EPA-R10-OAR-2024-0449; FRL-12269-01-R10]

Air Plan Approval; ID; Update to Materials Incorporated by Reference

AGENCY: Environmental Protection Agency (EPA).

ACTION: Final rule; administrative change.

SUMMARY: The Environmental Protection Agency (EPA) is updating the materials that are incorporated by reference (IBR) into the Idaho State Implementation Plan (SIP). The regulations affected by this update have been previously submitted by Idaho and approved by the EPA. In this final rule, the EPA is also notifying the public of corrections and clarifying changes in the Code of Federal Regulations (CFR) tables that identify the materials incorporated by reference into the Idaho SIP. This update affects the materials that are available for public inspection at the National Archives and Records Administration (NARA) and the EPA Regional Office.

DATES: This action is effective November 18, 2024.

ADDRESSES: The SIP materials for which incorporation by reference into 40 CFR part 52 is finalized through this action are available for inspection at the following locations: Environmental Protection Agency, Region 10, 1200 Sixth Avenue, Suite 155, Seattle, WA 98101; and www.regulations.gov. To view the materials at the Region 10 Office, the EPA requests that you email the contact listed in the FOR FURTHER INFORMATION CONTACT section to schedule your inspection. The Regional Office's official hours of business are Monday through Friday 8:30 a.m. to 4:30 p.m., excluding Federal holidays.

FOR FURTHER INFORMATION CONTACT: Kristin Hall, EPA Region 10, 1200 Sixth Avenue—Suite 155, Seattle, WA 98101, at (206) 553-6357, or hall.kristin@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to the EPA. Once these control measures and strategies are approved by the EPA, and after notice and comment, they are incorporated into the federally approved SIP and are identified in title 40 of part 52, “Approval and Promulgation of Implementation Plans,” of the Code of Federal Regulations (40 CFR part 52). The full text of the state regulation approved by the EPA is not reproduced in its entirety in 40 CFR part 52 but is “incorporated by reference.” This means that the EPA has approved a given state regulation or specified changes to the given regulation with a specific effective date. The public is referred to the location of the full text version should they want to know which measures are contained in a given SIP. The information provided allows the EPA and the public to monitor the extent to which a state implements a SIP to attain and maintain the NAAQS and to take enforcement action for violations of the SIP.

The SIP is a living document which the state can revise as necessary to address the unique air pollution problems in the state. Therefore, the EPA from time to time must take action on proposed revisions containing new or revised state regulations. A submission from a state can revise one or more rules in their entirety, or portions of rules. The state indicates the changes in the submission (such as by using redline/strikethrough text) and the EPA then takes action on the requested changes. The EPA establishes a docket for its actions using a unique Docket Identification Number, which is listed in each action. These dockets and the complete submission are available for viewing on www.regulations.gov.

On May 22, 1997 (62 FR 27968), the EPA revised the procedures for incorporating by reference, into the Code of Federal Regulations, materials approved by the EPA into each SIP. These changes revised the format for the identification of the SIP in 40 CFR part 52, streamlined the mechanisms for announcing the EPA approval of revisions to a SIP, and streamlined the mechanisms for the EPA's updating of the IBR information contained for each SIP in 40 CFR part 52. The revised procedures also called for the EPA to maintain “SIP Compilations” that contain the federally approved regulations and source-specific permits submitted by each state agency.

The EPA generally updates these SIP Compilations every few years. Under the revised procedures, the EPA must periodically publish an informational document in the rules section of the Federal Register notifying the public that updates have been made to a SIP Compilation for a particular state. The EPA began applying the 1997 revised procedures to the Idaho SIP on January 25, 2005 (70 FR 3479). The EPA subsequently published updates to the IBR materials for Idaho on December 28, 2012 (77 FR 76417), April 1, 2015 (80 FR 17333), and July 24, 2020 (85 FR 44741).

A. Approved and Incorporated by Reference Regulatory Materials

Since the last IBR update, the EPA approved and incorporated by reference regulatory materials into the Idaho SIP at 40 CFR 52.670(c) as described in the following paragraphs of this preamble.

1. Action on November 19, 2020 (85 FR 73632):

• IDAPA 58.01.01.006 (general air quality definitions), except section 006.49, 006.50, 006.51, 006.66, 006.67, 006.68.b, 006.116, and 006.118 (State effective 4/11/2019);

• IDAPA 58.01.01.107 (incorporation by reference of Federal standards), except section 107.03.f through 107.03.p (State effective 3/30/2020);

• IDAPA 58.01.01.221 (exemptions from permit to construct requirements for certain pollutants) (State effective 4/11/2019);

• IDAPA 58.01.01.222 (exemptions from permit to construct for certain sources) (State effective 4/11/2019); and

• IDAPA 58.01.01.404 (procedure for issuing permits) (State effective 4/11/2019).

2. Action on May 24, 2022 (87 FR 31429):

• IDAPA 58.01.01.107 (incorporation by reference of Federal standards), except section 107.03.f through 107.03.p (State effective 6/17/2021).

3. Action on March 29, 2023 (88 FR 18426):

• IDAPA 58.01.01.107 (incorporation by reference of Federal standards), except section 107.03.f through 107.03.p (State effective 3/24/2022).

4. Action on May 26, 2023 (88 FR 34091):

• Idaho Code section 39-107(1)(a) (board composition rules) (State effective 7/1/2022).

B. Regulatory Materials Removed From Incorporation by Reference

Since the last IBR update, the EPA also removed the following regulatory materials from the Idaho SIP at 40 CFR 52.670(c).

1. Action on November 19, 2020 (85 FR 73632):

• IDAPA 58.01.01.845 (rules for control of sulfur oxide emissions from sulfuric acid plants) (State effective 5/1/1994);

• IDAPA 58.01.01.846 (emission limits) (State effective 4/5/2000);

• IDAPA 58.01.01.847 (monitoring and testing requirements) (State effective 5/1/1994); and

• IDAPA 58.01.01.848 (compliance schedules) (State effective 4/5/2000).

2. Action on June 15, 2023 (88 FR 39177):

• Ada County Ordinance (motor vehicle emissions control ordinance) (county approval date 6/15/1999);

• City of Boise Ordinance (motor vehicle emissions control ordinance) (city approval date 7/20/1999);

• City of Eagle Ordinance (motor vehicle emissions control ordinance) (city approval date 4/27/1999);

• City of Garden City Ordinance (motor vehicle emission control ordinance) (most recently amended 8/13/1996); and

• City of Meridian Ordinance (motor vehicle emissions control ordinance) (city approval date 6/1/1999).

II. EPA Action

In this action, the EPA is providing notification of an update to the materials incorporated by reference into the Idaho SIP as of September 1, 2024, and identified in 40 CFR 52.670(c) and (d). This update includes SIP materials submitted by Idaho and approved by the EPA since the last IBR update. See 85 FR 44741 (July 24, 2020). In addition, The EPA is providing notification of the following corrections and clarifying changes to 40 CFR 52.670(c), (d), and (e):

A. Changes Applicable to Paragraph (c)

1. Revising the introductory text of paragraph (c), “EPA approved regulations,” to read “EPA approved laws and regulations”;

2. Replacing the original table entitled “EPA Approved Idaho Regulations and Statutes” with three new tables entitled “Table 1 to Paragraph (c)—State Regulations”, “Table 2 to Paragraph (c)—State Statutes”, and “Table 3 to Paragraph (c)—City and County Codes and Ordinances”;

3. Sorting the entries from the original table into the three new tables;

4. Revising the undesignated heading “Idaho Administrative Procedures Act (IDAPA) 58.01.01—Rules for the Control of Air Pollution in Idaho” to read “Rules for the Control of Air Pollution in Idaho (IDAPA 58.01.01)”;

5. Adding back entries 121 and 122 that were removed in error in the action on November 19, 2020 (85 FR 73632); and

6. Correcting entries 221 and 222 that should have been revised in the action on November 19, 2020 (85 FR 73632).

B. Changes Applicable to Paragraph (d)

1. Revising the introductory text of paragraph (d), “EPA approved State Source-specific requirements,” to read “EPA approved source-specific requirements”; and

2. Renaming the original table entitled “EPA Approved Idaho Source-Specific Requirements” to read “Table 4 to Paragraph (d)—State Source-Specific Requirements”.

C. Changes Applicable to Paragraph (e)

1. Replacing the original table entitled “EPA-Approved Idaho Nonregulatory Provisions and Quasi-Regulatory Measures” with two new tables entitled “Table 5 to Paragraph (e)—State Provisions Approved but not Incorporated by Reference”, “Table 6 to Paragraph (e)—State Attainment, Maintenance and Other Plans”;

2. Sorting and grouping the entries from the original table into the two new tables;

3. Correcting the entry for “Northern Ada County Air Quality Maintenance Area Second 10-year Carbon Monoxide Limited Maintenance Plan” to list the appropriate geographic area, “Northern Ada County”, instead of “state-wide”; and

4. Correcting the entry for “Regional Haze SIP Revision” to revise text in the explanations column that was included in error.

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs, makes corrections and clarifying changes to the tables in the CFR, and makes ministerial changes to the prefatory heading to the tables in the CFR. Under section 553 of the APA, an agency may find good cause where procedures are “impracticable, unnecessary, or contrary to the public interest.” Public comment for this administrative action is “unnecessary” and “contrary to the public interest” since the codification (and corrections) only reflect existing law. Immediate notice of this action in the Federal Register benefits the public by providing the public notification of the updated Idaho SIP Compilation and notification of corrections to the Idaho “Identification of Plan” portion of the CFR. Further, pursuant to section 553(d)(3), making this action immediately effective benefits the public by immediately updating both the SIP Compilation and the CFR “Identification of plan” section (which includes table entry corrections).

IV. Incorporation by Reference

In this document, The EPA is finalizing regulatory text that includes incorporation by reference. In accordance with requirements of 1 CFR 51.5, The EPA is finalizing the incorporation by reference of regulations promulgated by Idaho, previously approved by the EPA and federally effective before September 1, 2024, contained in 40 CFR 52.670(c), EPA approved laws and regulations, and 40 CFR 52.670(d), EPA approved source-specific requirements, described in section II. of this preamble. The EPA has made, and will continue to make, these materials generally available through www.regulations.gov and at the EPA Region 10 Office (please contact the person identified in the FOR FURTHER INFORMATION CONTACT section of this preamble for more information).

V. Statutory and Executive Order Reviews

Under the Clean Air Act (CAA), the Administrator is required to approve a SIP submission that complies with the provisions of the CAA and applicable Federal regulations. 42 U.S.C. 7410(k); 40 CFR 52.02(a). Thus, in reviewing SIP submissions, The EPA's role is to approve state choices, provided that they meet the criteria of the CAA. Accordingly, this action merely approves state law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and it will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements Executive Order 12898 and defines EJ as, among other things, the just treatment and meaningful involvement of all people, regardless of income, race, color, national origin, or Tribal affiliation, or disability in agency decision-making and other Federal activities that affect human health and the environment.

The EPA did not perform an EJ analysis and did not consider EJ in this action. Consideration of EJ is not required as part of this action, and there is no information in the record inconsistent with the stated goal of Executive Order 12898/14096 of achieving EJ for communities with EJ concerns.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA also believes that the provisions of section 307(b)(1) of the CAA pertaining to petitions for judicial review are not applicable to this action. This is because prior EPA rulemaking actions for each individual component of the Idaho SIP Compilation previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 7, 2024.
Casey Sixkiller,
Regional Administrator, Region 10.

For the reasons set forth in the preamble, the EPA is amending 40 CFR part 52 as follows:

PART 52—APPROVAL AND PROMULGATION OF IMPLEMENTATION PLANS

1. The authority citation for part 52 continues to read as follows:

Authority: 42 U.S.C. 7401 et seq.

Subpart N—Idaho

2. In § 52.670, paragraphs (b) through (e) are revised to read as follows:

§ 52.670 Identification of plan.

* * * * *

(b) Incorporation by reference. (1) Material listed in paragraphs (c) and (d) of this section with an EPA approval date prior to September 1, 2024, was approved for incorporation by reference by the Director of the Federal Register in accordance with 5 U.S.C. 552(a) and 1 CFR part 51. Material is incorporated as it exists on the date of the approval and notification of any change in the material will be published in the Federal Register. Entries in paragraphs (c) and (d) with EPA approval dates after September 1, 2024, will be incorporated by reference in the next update to the SIP compilation.

(2) EPA Region 10 certifies that the rules/regulations provided by the EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 10 EPA Office at 1200 Sixth Avenue, Suite 155, Seattle, WA 98101. To obtain the material, please call (206) 553-6357. You may inspect the material with an EPA approval date prior to September 1, 2024, for Idaho at the National Archives and Records Administration (NARA). For information on the availability of this material at NARA email fedreg.legal@nara.gov or go to https://www.archives.gov/federal-register/cfr/ibr-locations.

(c) EPA approved laws and regulations.

Table 1 to Paragraph (c)—State Regulations
State citation | Title/subject | State effective date | EPA approval date | Explanations
Rules for the Control of Air Pollution in Idaho (IDAPA 58.01.01)
001 | Title and Scope | 5/1/1994 | 1/16/2003, 68 FR 2217
004 | Catchlines | 5/1/1994 | 1/16/2003, 68 FR 2217
005 | Definitions | 5/1/1994 | 1/16/2003, 68 FR 2217
006 | General Definitions | 4/11/2019; 4/11/2015, 4/4/2013, 3/30/2007, 4/11/2006, 7/1/2002, 4/5/2000, 3/20/1997, 5/1/1994 | 11/19/2020, 85 FR 73632 | Except sections 006.49, 006.50, 006.51, 006.66, 006.67, 006.68.b, 006.116, and 006.118.
007 | Definitions for the Purposes of Sections 200 through 225 and 400 through 461 | 3/30/2007, 4/11/2006, 4/5/2000, 6/30/1995, 5/1/1995, 5/1/1994 | 6/9/2011, 76 FR 33647
011 | Definitions for the Purposes of Sections 790 through 799 | 3/15/2002 | 8/12/2016, 81 FR 53290
106 | Abbreviations | 5/1/1994 | 1/16/2003, 68 FR 2217
107 | Incorporations by Reference | 3/28/2018, 3/25/2016, 3/20/2014, 3/30/2007, 7/1/1997, 5/1/1994 | 8/20/2018, 83 FR 42033 | Except sections 107.03.f through 107.03.p.
121 | Compliance Requirements by Department | 5/1/1994 | 1/16/2003, 68 FR 2217
122 | Information Orders by the Department | 4/5/2000, 5/1/1994 | 1/16/2003, 68 FR 2217
123 | Certification of Documents | 5/1/1994 | 1/16/2003, 68 FR 2217
124 | Truth, Accuracy and Completeness of Documents | 5/1/1994 | 1/16/2003, 68 FR 2217
125 | False Statements | 3/23/1998 | 1/16/2003, 68 FR 2217
126 | Tampering | 3/23/1998 | 1/16/2003, 68 FR 2217
127 | Format of Responses | 5/1/1994 | 1/16/2003, 68 FR 2217
130 | Startup, Shutdown, Scheduled Maintenance, Safety Measures, Upset and Breakdown | 4/5/2000 | 1/16/2003, 68 FR 2217
131 | Excess Emissions | 4/5/2000 | 1/16/2003, 68 FR 2217
132 | Correction of Condition | 4/5/2000 | 1/16/2003, 68 FR 2217
133 | Start-up, Shutdown and Scheduled Maintenance Requirements | 4/11/2006, 4/5/2000, 3/20/1997 | 11/26/2010, 75 FR 72719
134 | Upset, Breakdown and Safety Requirements | 4/11/2006, 4/5/2000, 3/20/1997 | 11/26/2010, 75 FR 72719
135 | Excess Emission Reports | 4/11/2006, 4/5/2000, 3/20/1997 | 11/26/2010, 75 FR 72719
136 | Excess Emission Records | 4/5/2000, 3/23/1998, 3/20/1997 | 1/16/2003, 68 FR 2217
155 | Circumvention | 4/11/2006 | 11/26/2010, 75 FR 72719
156 | Total Compliance | 5/1/1994 | 1/16/2003, 68 FR 2217
157 | Test Methods and Procedures | 4/11/2015 | 8/12/2016, 81 FR 53290
160 | Provisions Governing Specific Activities and Conditions | 4/5/2000 | 1/16/2003, 68 FR 2217
162 | Modifying Physical Conditions | 5/1/1994 | 1/16/2003, 68 FR 2217
163 | Source Density | 5/1/1994 | 1/16/2003, 68 FR 2217
164 | Polychlorinated Biphenyls (PCBs) | 5/1/1994 | 1/16/2003, 68 FR 2217
175 | Procedures and Requirements for Permits Establishing a Facility Emissions Cap | 4/11/2015 | 8/12/2016, 81 FR 53290
176 | Facility Emissions Cap | 4/11/2015 | 8/12/2016, 81 FR 53290 | Except for provisions relating to hazardous air pollutants.
177 | Application Procedures | 4/11/2015 | 8/12/2016, 81 FR 53290
178 | Standard Contents of Permits Establishing a Facility Emissions Cap | 4/11/2015 | 8/12/2016, 81 FR 53290
179 | Procedures for Issuing Permits Establishing a Facility Emissions Cap | 4/11/2015 | 8/12/2016, 81 FR 53290
180 | Revisions to Permits Establishing a Facility Emissions Cap | 4/11/2015 | 8/12/2016, 81 FR 53290
181 | Notice and Recordkeeping of Estimates of Ambient Concentrations | 4/11/2015 | 8/12/2016, 81 FR 53290
200 | Procedures and Requirements for Permits to Construct | 3/25/2016 | 5/12/2017, 82 FR 22083
201 | Permit to Construct Required | 4/11/2006 | 8/12/2016, 81 FR 53290
202 | Application Procedures | 4/11/2015 | 8/12/2016, 81 FR 53290
203 | Permit Requirements for New and Modified Stationary Sources | 5/1/1994 | 1/16/2003, 68 FR 2217 | Except subsection 203.03.
204 | Permit Requirements for New Major Facilities or Major Modifications in Nonattainment Areas | 4/2/2008, 3/30/2007, 4/6/2005, 4/5/2000, 5/1/1994 | 11/26/2010, 75 FR 72719
205 | Permit Requirements for New Major Facilities or Major Modifications in Attainment or Unclassifiable Areas | 4/2/2008, 3/30/2007, 4/6/2005 | 11/26/2010, 75 FR 72719
206 | Optional Offsets for Permits to Construct | 4/6/2005 | 11/26/2010, 75 FR 72719
207 | Requirements for Emission Reduction Credit | 5/1/1994 | 1/16/2003, 68 FR 2217
208 | Demonstration of Net Air Quality Benefit | 4/5/2000, 5/1/1994 | 1/16/2003, 68 FR 2217
209 | Procedures for Issuing Permits | 4/11/2006, 4/6/2005, 5/3/2003, 7/1/2002, 4/5/2000, 3/19/1999, 3/23/1998, 5/1/1994 | 11/26/2010, 75 FR 72719
211 | Conditions for Permits to Construct | 5/1/1994 | 1/16/2003, 68 FR 2217
212 | Obligation to Comply | 5/1/1994 | 1/16/2003, 68 FR 2217
213 | Pre-Permit Construction | 4/11/2006, 5/3/2003, 4/5/2000, 3/23/1998 | 11/26/2010, 75 FR 72719
220 | General Exemption Criteria for Permit to Construct Exemptions | 4/4/2013, 4/5/2000 | 3/3/2014, 79 FR 11711
221 | Category I Exemption | 4/11/2019 | 11/19/2020, 85 FR 73632
222 | Category II Exemption | 4/11/2019 | 11/19/2020, 85 FR 73632
400 | Procedures and Requirements for Tier II Operating Permits | 7/1/2002 | 11/26/2010, 75 FR 72719
401 | Tier II Operating Permit | 4/11/2015 | 8/12/2016, 81 FR 53290 | Except sections 401.01.a and 401.04.
402 | Application Procedures | 7/1/2002, 5/1/1994, 4/5/2000, 7/1/2002 | 11/26/2010, 75 FR 72719
403 | Permit Requirements for Tier II Sources | 5/1/1994 | 1/16/2003, 68 FR 2217
404 | Procedure for Issuing Permits | 4/11/2019 | 11/19/2020, 85 FR 73632
405 | Conditions for Tier II Operating Permits | 5/1/1994 | 1/16/2003, 68 FR 2217
406 | Obligation to Comply | 5/1/1994 | 1/16/2003, 68 FR 2217
460 | Requirements for Emission Reduction Credits | 4/11/2006, 4/5/2000, 5/1/1994 | 11/26/2010, 75 FR 72719
461 | Requirements for Banking Emission Reduction Credits (ERC's) | 4/5/2000, 5/1/1994 | 1/16/2003, 68 FR 2217
500 | Registration Procedures and Requirements for Portable Equipment | 5/1/1994 | 1/16/2003, 68 FR 2217
510 | Stack Heights and Dispersion Techniques | 5/1/1994 | 1/16/2003, 68 FR 2217
511 | Applicability | 4/11/2006 | 11/26/2010, 75 FR 72719
512 | Definitions | 4/11/2006, 5/1/1994, 4/5/2000 | 11/26/2010, 75 FR 72719
513 | Requirements | 4/11/2006 | 11/26/2010, 75 FR 72719
514 | Opportunity for Public Hearing | 5/1/1994 | 1/16/2003, 68 FR 2217
515 | Approval of Field Studies and Fluid Models | 5/1/1994 | 1/16/2003, 68 FR 2217
516 | No Restriction on Actual Stack Height | 5/1/1994 | 1/16/2003, 68 FR 2217
550 | Air Pollution Emergency Rule | 5/1/1994 | 1/16/2003, 68 FR 2217
551 | Episode Criteria | 5/1/1994 | 1/16/2003, 68 FR 2217
552 | Stages | 3/15/2002, 5/1/1994 | 1/16/2003, 68 FR 2217
553 | Effect of Stages | 3/15/2002 | 1/16/2003, 68 FR 2217
556 | Criteria for Defining Levels Within Stages | 3/15/2002, 4/5/2000 | 1/16/2003, 68 FR 2217
557 | Public Notification | 5/1/1994 | 1/16/2003, 68 FR 2217
558 | Information To Be Given | 3/15/2002, 5/1/1994 | 1/16/2003, 68 FR 2217
559 | Manner and Frequency of Notification | 5/1/1994 | 1/16/2003, 68 FR 2217
560 | Notification to Sources | 4/11/2006 | 11/26/2010, 75 FR 72719
561 | General Rules | 4/11/2006, 5/1/1994, 3/15/2002 | 11/26/2010, 75 FR 72719
562 | Specific Emergency Episode Abatement Plans for Point Sources | 5/1/1994 | 1/16/2003, 68 FR 2217
563 | Transportation Conformity | 3/30/2001 | 4/12/2001, 66 FR 18873
564 | Incorporation by Reference | 3/30/2001 | 4/12/2001, 66 FR 18873
565 | Abbreviations | 3/30/2001 | 4/12/2001, 66 FR 18873
566 | Definitions for the Purpose of Sections 563 Through 574 and 582 | 3/30/2001 | 4/12/2001, 66 FR 18873
567 | Agencies Affected by Consultation | 3/30/2001 | 4/12/2001, 66 FR 18873
568 | ICC Member Roles in Consultation | 3/30/2001 | 4/12/2001, 66 FR 18873
569 | ICC Member Responsibilities in Consultation | 3/30/2001 | 4/12/2001, 66 FR 18873
570 | General Consultation Process | 3/30/2001 | 4/12/2001, 66 FR 18873
571 | Consultation Procedures | 3/30/2001 | 4/12/2001, 66 FR 18873
572 | Final Conformity Determinations by USDOT | 3/30/2001 | 4/12/2001, 66 FR 18873
573 | Resolving Conflicts | 3/30/2001 | 4/12/2001, 66 FR 18873
574 | Public Consultation Procedures | 3/30/2001 | 4/12/2001, 66 FR 18873
575 | Air Quality Standards and Area Classification | 4/11/2006 | 11/26/2010, 75 FR 72719
576 | General Provisions for Ambient Air Quality Standards | 5/1/1994 | 1/16/2003, 68 FR 2217
578 | Designation of Attainment, Unclassifiable, and Nonattainment Areas | 5/1/1994 | 1/16/2003, 68 FR 2217
579 | Baselines for Prevention of Significant Deterioration | 4/11/2015 | 8/12/2016, 81 FR 53290
580 | Classification of Prevention of Significant Deterioration Areas | 4/5/2000, 5/1/1994 | 1/16/2003, 68 FR 2217
581 | Prevention of Significant Deterioration (PSD) Increments | 10/6/2010, 4/11/2006, 7/1/1997, 5/1/1994 | 7/17/2012, 77 FR 41916
600 | Rules for Control of Open Burning | 4/2/2008 | 8/1/2008, 73 FR 44915 | Previous EPA approval date of 7/11/2005 removed in response to 9th Circuit remand.
601 | Fire Permits, Hazardous Materials and Liability | 4/2/2008 | 8/1/2008, 73 FR 44915 | Previous EPA approval date of 7/11/2005 removed in response to 9th Circuit remand.
602 | Nonpreemption of Other Jurisdictions | 4/2/2008 | 8/1/2008, 73 FR 44915 | Previous EPA approval date of 7/11/2005 removed in response to 9th Circuit remand.
603 | General Restrictions | 4/2/2008, 3/21/2003, 5/1/1994 | 8/1/2008, 73 FR 44915 | Previous EPA approval date of 7/11/2005 removed in response to 9th Circuit remand.
606 | Categories of Allowable Burning | 4/2/2008 | 8/1/2008, 73 FR 44915 | Previous EPA approval date of 7/11/2005 removed in response to 9th Circuit remand.
607 | Recreational and Warming Fires | 3/21/2003 | 8/1/2008, 73 FR 44915 | Previous EPA approval date of 7/11/2005 removed in response to 9th Circuit remand.
608 | Weed Control Fires | 5/1/1994 | 8/1/2008, 73 FR 44915 | Previous EPA approval date of 7/11/2005 removed in response to 9th Circuit remand.
609 | Training Fires | 3/21/2003 | 8/1/2008, 73 FR 44915 | Previous EPA approval date of 7/11/2005 removed in response to 9th Circuit remand.
610 | Industrial Flares | 3/21/2003 | 8/1/2008, 73 FR 44915 | Previous EPA approval date of 7/11/2005 removed in response to 9th Circuit remand.
611 | Residential Solid Waste Disposal Fires | 5/1/1994 | 1/16/2003, 68 FR 2217
612 | Landfill Disposal Site Fires | 3/21/2003 | 8/1/2008, 73 FR 44915 | Previous EPA approval date of 7/11/2005 removed in response to 9th Circuit remand.
613 | Orchard Fires | 3/21/2003, 5/1/1994 | 8/1/2008, 73 FR 44915 | Previous EPA approval date of 7/11/2005 removed in response to 9th Circuit remand.
614 | Prescribed Burning | 5/1/1994 | 1/16/2003, 68 FR 2217
615 | Dangerous Material Fires | 3/21/2003 | 8/1/2008, 73 FR 44915 | Previous EPA approval date of 7/11/2005 removed in response to 9th Circuit remand.
616 | Infectious Waste Burning | 3/21/2003 | 8/1/2008, 73 FR 44915 | Previous EPA approval date of 7/11/2005 removed in response to 9th Circuit remand.
617 | Crop Residue | 7/1/2011, 4/2/2008 | 3/19/2013,78 FR 16790
618 | Permit By Rule | 7/1/2011, 4/2/2008 | 3/19/2013, 78 FR 16790
619 | Registration for Permit By Rule | 4/2/2008 | 8/1/2008, 73 FR 44915
620 | Burn Fee | 4/11/2019 | 12/9/2019, 84 FR 67189
621 | Burn Determination | 2/28/2018, 4/2/2008 | 6/19/2018, 83 FR 28382; 8/1/2008, 73 FR 44915
622 | General Provisions | 7/1/2011, 4/2/2008 | 3/19/2013, 78 FR 16790
623 | Public Notification | 7/1/2011, 4/2/2008 | 3/19/2013, 78 FR 16790
624 | Spot Burn, Baled Agricultural Residue Burn, and Propane Flaming Permits | 7/1/2011 | 3/19/2013, 78 FR 16790
625 | Visible Emissions | 4/2/2008 | 8/1/2008, 73 FR 44915
626 | General Restrictions on Visible Emissions from Wigwam Burners | 4/5/2000 | 1/16/2003, 68 FR 2217
650 | Rules for Control of Fugitive Dust | 5/1/1994 | 1/16/2003, 68 FR 2217
651 | General Rules | 3/30/2007, 5/1/1994 | 6/9/2011, 76 FR 33647
665 | Regional Haze Rules | 3/30/2007 | 6/9/2011, 76 FR 33647
666 | Reasonable Progress Goals | 3/30/2007 | 6/9/2011, 76 FR 33647
667 | Long-Term Strategy for Regional Haze | 3/30/2007 | 6/9/2011, 76 FR 33647
668 | BART Requirement for Regional Haze | 3/30/2007 | 6/9/2011, 76 FR 33647
675 | Fuel Burning Equipment—Particulate Matter | 4/5/2000 | 1/16/2003, 68 FR 2217
676 | Standards for New Sources | 5/1/1994 | 1/16/2003, 68 FR 2217
677 | Standards for Minor and Existing Sources | 5/1/1994 | 1/16/2003, 68 FR 2217
678 | Combinations of Fuels | 5/1/1994 | 1/16/2003, 68 FR 2217
679 | Averaging Period | 4/11/2006, 5/1/1994 | 11/26/2010, 75 FR 72719
680 | Altitude Correction | 5/1/1994 | 1/16/2003, 68 FR 2217
681 | Test Methods and Procedures | 4/5/2000 | 1/16/2003, 68 FR 2217
700 | Particulate Matter Process Weight Limitations | 5/3/2003, 4/5/2000 | 11/26/2010, 75 FR 72719
701 | Particulate Matter—New Equipment Process Weight Limitations | 4/5/2000 | 1/16/2003, 68 FR 2217
702 | Particulate Matter—Existing Equipment Process Weight Limitations | 4/5/2000, 5/1/1994 | 1/16/2003, 68 FR 2217
703 | Particulate Matter—Other Processes | 4/5/2000 | 1/16/2003, 68 FR 2217
725 | Rules for Sulfur Content of Fuels | 4/11/2015 | 8/12/2016, 81 FR 53290
785 | Rules for Control of Incinerators | 5/1/1994 | 1/16/2003, 68 FR 2217
786 | Emission Limits | 4/5/2000 | 1/16/2003, 68 FR 2217
787 | Exceptions | 3/23/1998 | 1/16/2003, 68 FR 2217
790 | Rules for the Control of Nonmetallic Mineral Processing Plants | 3/15/2002 | 8/12/2016, 81 FR 53290
791 | General Control Requirements | 3/15/2002 | 8/12/2016, 81 FR 53290
793 | Emissions Standards for Nonmetallic Mineral Processing Plants not Subject to 40 CFR 60, Subpart OOO | 3/15/2002 | 8/12/2016, 81 FR 53290
794 | Permit Requirements | 4/11/2015 | 8/12/2016, 81 FR 53290 | Except section 794.04.
795 | Permit by Rule Requirements | 3/15/2002 | 8/12/2016, 81 FR 53290
796 | Applicability | 3/15/2002 | 8/12/2016, 81 FR 53290
797 | Registration for Permit by Rule | 3/15/2002 | 8/12/2016, 81 FR 53290
798 | Electrical Generators | 3/15/2002 | 8/12/2016, 81 FR 53290
799 | Nonmetallic Mineral Processing Plan Fugitive Dust Best Management Practice | 3/15/2002 | 8/12/2016, 81 FR 53290
805 | Rules for Control of Hot-mix Asphalt Plants | 5/1/1994 | 1/16/2003, 68 FR 2217
806 | Emission Limits | 5/1/1994 | 1/16/2003, 68 FR 2217
807 | Multiple Stacks | 5/1/1994 | 1/16/2003, 68 FR 2217
808 | Fugitive Dust Control | 5/1/1994 | 1/16/2003, 68 FR 2217
815 | Rules for Control of Kraft Pulp Mills | 3/29/2012 | 4/8/2019, 84 FR 13803
818 | Kraft Pulp Mill LVHC and HVLC Gas Venting Notification and Reporting | 3/29/2012 | 4/8/2019, 84 FR 13803

Table 2 to Paragraph (c)—State Statutes
State citation | Title/subject | State effective date | EPA approval date | Explanations
Section 4 of Senate Bill 1024, codified at Idaho Code section 39-114 | Open Burning of Crop Residue | 2/28/2018 | 12/9/2019, 84 FR 67189
Idaho Code section 39-107(1)(a) | Board—Composition—Officers—Compensation—Powers—Subpoena—Depositions—Review—Rules | 7/1/2022 | 5/26/2023, 88 FR 34093 | To satisfy the requirements of CAA section 128(a)(1) and CAA section 110(a)(2)(E)(ii) for all criteria pollutants.

Table 3 to Paragraph (c)—City and County Codes and Ordinances
State citation | Title/subject | State effective date | EPA approval date | Explanations
City of Sandpoint Ordinance No. 939 | Material Specifications for Street Sanding Material | 2/22/1994 (City adoption date) | 6/26/2002, 67 FR 43006 | Sandpoint PM10 Nonattainment Area Plan.
City of Sandpoint Chapter 8 Air Quality (4-8-1 through 4-8-14) | Solid Fuel Heating Appliances | 9/21/2011 (City adoption date) | 4/3/2013, 78 FR 20001 | Codified version of City of Sandpoint Ordinance No. 965 as amended by Ordinance No. 1237 and Ordinance No. 1258. Sandpoint PM10 Limited Maintenance Plan.
Boise City Ordinance 4432 | Parking Permits | 8/13/1979 (City approval date) | 6/6/1985, 50 FR 23810 | Transportation Control Plan for carbon monoxide, Ada County.
City of Garden City Ordinance 514, 533, and 624 | Solid Fuel Heating Appliance Ordinance of the City of Garden City, Idaho | 5/14/1987, 1/10/1989, 9/13/1994 (City approval dates) | 5/30/1996, 61 FR 27019 | Northern Ada County PM10 Nonattainment Area Plan.
Meridian Ordinance 667 | Meridian Clean Air Ordinance | 8/16/1994 (City approval date) | 5/30/1996, 61 FR 27019 | Northern Ada County PM10 Nonattainment Area Plan.
City of Eagle Ordinance 245 | City of Eagle Clean Air Ordinance | 4/26/1994 (City approval date) | 5/30/1996, 61 FR 27019 | Northern Ada County PM10 Nonattainment Area Plan.
Ada County Ordinance 254 | Ada County Clean Air Ordinance | 11/3/1992 (County adoption date) | 5/30/1996, 61 FR 27019 | Northern Ada County PM10 Nonattainment Area Plan.
Table: Ordinance-1 | Explanation of enforcement procedures, responsibilities and sources of funding for the Northern Ada County Wood Burning Control Ordinances | 12/30/1994 (date of table) | 5/30/1996, 61 FR 27019 | Northern Ada County PM10 Nonattainment Area Plan.
City of Pocatello Ordinance 2450 | Residential wood combustion curtailment ordinance | 1/12/1994 | 7/13/2006, 71 FR 39574 | Portneuf Valley Nonattainment Area Plan and Maintenance Plan.
City of Pocatello Ordinance 2726 | Revised air quality curtailment levels | 9/18/2003 | 7/13/2006, 71 FR 39574 | Portneuf Valley Nonattainment Area Plan and Maintenance Plan.
City of Chubbuck Ordinance 403 | Residential wood combustion curtailment ordinance | 11/23/1993 | 7/13/2006, 71 FR 39574 | Portneuf Valley Nonattainment Area Plan and Maintenance Plan.
City of Chubbuck Ordinance 582 | Revised air quality curtailment levels | 12/9/2003 | 7/13/2006, 71 FR 39574 | Portneuf Valley Nonattainment Area Plan and Maintenance Plan.
City of Clifton Ordinance No. 120 | Ordinance No. 120 | 8/11/2012 | 3/25/2014, 79 FR 16201 | Except Section 9 (Penalty).
City of Dayton Ordinance #287 | Ordinance #287 | 8/8/2012 | 3/25/2014, 79 FR 16201 | Except Section 9 (Penalty).
Franklin City Ordinance No. 2012-9-12 | Solid Fuel Heating Appliances | 9/12/2012 | 3/25/2014, 79 FR 16201 | Except Section 9 (Penalty).
Franklin County Ordinance No. 2012-6-25 | Solid Fuel Heating Appliances | 6/25/2012 | 3/25/2014, 79 FR 16201 | Except Section 9 (Penalty).
City of Oxford Memorandum of Understanding | Solid Fuel Heating Appliances | 10/22/2012 | 3/25/2014, 79 FR 16201 | Except #2 of the MOA and Section 9 of Exhibit A.
City of Preston Ordinance No. 2012-1 | Ordinance No. 2012-1 | 6/11/2012 | 3/25/2014, 79 FR 16201 | Except Section 9 (Penalty).
City of Weston Ordinance No. 2012-01 | Ordinance No. 2012-01 | 8/1/2012 | 3/25/2014, 79 FR 16201 | Except Section 9 (Penalty).

(d) EPA approved source-specific requirements.

Table 4 to Paragraph (d)—State Source-Specific Requirements ¹
Name of source | Permit No. | State effective date | EPA approval date | Explanation
LP Wood Polymers, Inc., Meridian, Idaho | 001-00115 | 7/12/2002 | 10/27/2003, 68 FR 61106 | The following conditions: 1.1, 1.3, 3.1, and the Appendix. (Boise/Ada County Maintenance Plan).
Consolidated Concrete Company, Boise, Idaho | 001-00046 | 12/3/2001 | 10/27/2003, 68 FR 61106 | The following conditions: 1.1, 1.3, 2.3, 3.1, 3.2, and the Appendix. (Boise/Ada County Maintenance Plan).
Crookham Company, Caldwell, Idaho | 027-00020 | 1/18/2002 | 10/27/2003, 68 FR 61106 | The following conditions: 1.1, 1.3, 2.1, 2.3, 3.1, 3.1.1, 3.1.2, 3.2, and the Appendix. (Boise/Ada County Maintenance Plan).
Double D Service Center, Meridian, Idaho | 001-00168 | 2/4/2002 | 10/27/2003, 68 FR 61106 | The following conditions: 1.1, 1.3, 3.1, 3.2.1, 3.2.2, 3.2.3, and the Appendix. (Boise/Ada County Maintenance Plan).
Plum Creek Northwest Lumber, Inc., Meridian, Idaho | 001-00091 | 7/12/2002 | 10/27/2003, 68 FR 61106 | The following conditions: 1.1, 1.3, 2.1.2, 3.1, and the Appendix. (Boise/Ada County Maintenance Plan).
C. Wright Construction, Inc., Meridian, Idaho | T2-000033 | 7/8/2003 | 10/27/2003, 68 FR 61106 | The following conditions: 2 (heading only), 2.5, (2.12, Table 2.2 as it applies to PM10), 2.14, 3 (heading only), 3.3, Table 3.2, 3.4, 3.5, 3.6, 3.7, 3.8, 3.10, 4 (heading only), 4.2, 4.3, 4.4, 4.7, 5, and Table 5.1. (Boise/Ada County Maintenance Plan).
Nelson Construction Co., Boise, Idaho | T2-020029 | 7/21/2003 | 10/27/2003, 68 FR 61106 | The following conditions: 2 (heading only), 2.12, 2.14, 3 (heading only), 3.3, 3.4, 3.6, 3.7, 3.9, 3.10, 3.11, 3.12, 4 (heading only), 4.3, 4.4, 4.5, 4.6, 5, and Table 5.1. (Boise/Ada County Maintenance Plan).
Mike's Sand and Gravel, Nampa, Idaho | 001-00184 | 7/12/2002 | 10/27/2003, 68 FR 61106 | The following conditions: 1.1, 1.3, 2.2.1, 3.1, and the Appendix. (Boise/Ada County Maintenance Plan).
Idaho Concrete Co., Eagle, Idaho | T2-020031 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co., Eagle, Idaho | T2-020032 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co. Eagle, Idaho | T2-020033 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
The Amalgamated Sugar Company LLC, Nampa, Idaho | 027-00010 | 9/30/2002 | 10/27/2003, 68 FR 61106 and 11/1/2004, 69 FR 63324 | The following conditions: 2 (heading only), (2.7, Table 2.2 as it applies to PM10,) 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), 7.3, Table 7.1 as it applies to PM10, 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1 (except as it applies to condition 13.3, 13.3.1, 13.3.2, 13.5, 13.5.1, 13.5.2, 13.5.3, 13.6, 13.6.1, 13.6.2 and 13.9), Table 13.1 (except conditions 13.3, 13.5 and 13.6), (13.2, Table 13.2 as it applies to PM10), 13.2.1, 13.4, 13.4.1, 13.4.2, 13.4.3, 13.7, 13.7.1, 13.7.2, 13.8, 13.8.1, 13.8.2, 13.8.3, 13.10, and 13.11. (Boise/Ada County PM10 Maintenance Plan).
Lake Pre-Mix, Sandpoint, Idaho | 777-00182 | 5/17/1996 | 6/26/2002, 67 FR 43006 | The following conditions for the cement silo vent: 1.1, 2.1.1, 2.1.2, 3.1.1, and 3.1.2. (Sandpoint nonattainment area plan).
Interstate Concrete and Asphalt, Sandpoint, Idaho | 017-00048 | 8/2/1999 | 6/26/2002, 67 FR 43006 | The following conditions: for the asphalt plant, 2.2, 3.1.1, 4.1, 4.1.1, 4.1.2, 4.2.1 (as it applies to the hourly PM10 emission limit in Appendix A), 4.2.2, 4.2.2.1, 4.2.2.2, and 4.2.2.3; for the concrete batch plant, 2.1, 3.1.1, 4.1, 4.1.1, and 4.1.2; Appendix A (as it applies to PM10 emission rates after 7/1/96) and Appendix B (as it applies after 7/1/96). (Sandpoint nonattainment area plan).
Whiteman Lumber Company, Cataldo, ID | 13-1420-062 | 7/16/1979 (date issued) | 7/28/1982, 47 FR 32530 | Silver Valley TSP Nonattainment Area Plan.
Potlatch Corporation, Pulp and Paper Unit, Lewiston, ID | 13-1140-0001-00 | 7/5/1979 (date issued) | 7/28/1982, 47 FR 32530 | Lewiston TSP Nonattainment Area Plan.
Potlatch Corporation, Clearwater Unit, Lewiston, ID | 13-1140-0003 | 7/5/1979 (date issued) | 7/28/1982, 47 FR 32530 | Lewiston TSP Nonattainment Area Plan.
Coast Trading Company, Inc., Lewiston, ID | 13-1140-0011 | 6/29/1979 (date issued) | 7/28/1982, 47 FR 32530 | Lewiston TSP Nonattainment Area Plan.
Lewis-Clark Terminal Association, Lewiston, ID | 13-1140-0010 | 6/29/1979 (date issued) | 7/28/1982, 47 FR 32530 | Lewiston TSP Nonattainment Area Plan.
Poe Asphalt, Lewiston, ID | 0880-0008 | 3/1/1976 (effective date) | 7/28/1982, 47 FR 32530 | Lewiston TSP Nonattainment Area Plan.
FMC Corporation, Pocatello, ID ² | 13-1260-0005 | 2/26/1980 (date issued) | 7/28/1982, 47 FR 32530 | Pocatello TSP Nonattainment Area Plan.
J.R. Simplot, Pocatello, ID | 13-1260-0006-00 | 3/4/1980 (date issued) | 7/28/1982, 47 FR 32530 | Pocatello TSP Nonattainment Area Plan.
Idaho Portland Cement Company, Inkom, ID | 13-0080-0004-00 | 7/18/1979 (date issued) | 7/28/1982, 47 FR 32530 | Pocatello TSP Nonattainment Area Plan.
J.R. Simplot Company, Conda, ID | 13-0420-0021-00 | 7/18/1979 (date issued) | 7/28/1982, 47 FR 32530 | Soda Springs TSP Nonattainment Area Plan.
Beker Industries, Conda, ID | 13-0420-0003-00 | 7/18/1979 (date issued) | 7/28/1982, 47 FR 32530 | Soda Springs TSP Nonattainment Area Plan.
Monsanto, Soda Springs, ID | 13-0420-0001-00 | 7/18/1979 (date issued) | 7/28/1982, 47 FR 32530 | Soda Springs TSP Nonattainment Area Plan.
Kerr McGee, Soda Springs, ID | 13-0420-0002-00 | 7/18/1979 (date issued) | 7/28/1982, 47 FR 32530 | Soda Springs TSP Nonattainment Area Plan.
J.R. Simplot, Pocatello, Idaho | Air Pollution Operating Permit No. T1-9507-114-1; Facility Number No. 077-00006 | 4/5/2004 | 7/13/2006, 71 FR 39574 | The following conditions: Cover page, facility identification information only, #300 Sulfuric Acid Plant, Permit Conditions 16.1, 16.10, 16.11, #400 Sulfuric Acid Plant, Permit Condition 17.1, 17.7, 17.10, 17.11, Phosphoric acid plant, Permit Condition 12.3, 12.13, Granulation No. 3 Process, Permit Condition 9.2.1, Granulation No. 3 stack, 9.17 (except 9.17.1 through 9.17.6), Reclaim Cooling Towers, Permit Condition 14.2, 14.6.1, Babcock & Wilcox Boiler, Permit Condition 6.4, 6.12, HPB&W Boiler, Permit Condition 5.3, 5.13 through 5.18, 5.21.
J.R. Simplot, Pocatello, Idaho | Compliance Agreement & Voluntary Order Idaho Code 39-116A | 4/16/2004 | 7/13/2006, 71 FR 39574 | The following conditions: No. 300 Sulfuric Acid Plant; Condition 8 and 9. No. 400 Sulfuric Acid Plant; Condition 10, 11, and 12. Granulation No.1 Plant; Condition 14. Granulation No.2 Plant; Condition 15. Compliance and Performance Testing; Condition 16.
The Amalgamated Sugar Company LLC—Nampa Factory, Nampa, Idaho | T2-2009.0105 | 12/23/2011 (date issued) | 4/28/2014, 79 FR 23273 | The following conditions: 1.2, including the table of Regulated Emission Point Sources Table, 3.2, 3.3 (first paragraph only), 3.4, 3.5, 3.6, 3.7, 3.8, 3.9, 3.11, 3.13, 3.14, 3.15, 3.16, and 4.1.
P4 Production, L.L.C., Soda Springs, Idaho | T2-2009.0109 | 11/17/2009 (date issued) | 6/22/2011, 76 FR 36329 | The following conditions: 1.2 (including Table 1.1), 2.3, 2.4, 2.5, 2.6, 2.7, and 2.8. (Regional Haze SIP Revision).
¹ EPA does not have the authority to remove these source-specific requirements in the absence of a demonstration that their removal would not interfere with attainment or maintenance of the NAAQS, violate any prevention of significant deterioration increment or result in visibility impairment. Idaho Department of Environmental Quality may request removal by submitting such a demonstration to EPA as a SIP revision.
² Only a small portion of this facility is located on State lands. The vast majority of the facility is located in Indian Country. It is EPA's position that unless EPA has explicitly approved a program as applying in Indian country, State or local regulations or permits are not effective within the boundaries of that Indian country land for purposes of complying with the CAA. See 68 FR 2217, 2220 (January 16, 2003).

(e) EPA approved nonregulatory provisions and quasi-regulatory measures.

Table 5 to Paragraph (e)—State Provisions Approved But Not Incorporated by Reference
Name of SIP provision | Applicable geographic or nonattainment area | State submittal date | EPA approval date | Explanations
Appendix A.2—Idaho Environmental Protection and Health Act, Idaho Code Section 39-101 et seq | State-wide | 3/15/2001 | 1/16/2003, 68 FR 2217
Four sections of Appendix A.3—Rules and Regulations for Control of Air Pollution in Idaho—that were approved but not incorporated by reference in section (c) | State-wide | 5/17/1994 | 1/16/2003, 68 FR 2217 | IDAPA 58.01.01.000 (legal authority), 58.01.01.002 (written interpretations), 58.01.01.003 (administrative appeals), and 58.01.01.128 (confidential business information).
Idaho State Board SIP Revision; Idaho Code §§ 59-701 through 705; Ethics in Government Act | Statewide | 9/16/2013 | 10/24/2013, 78 FR 63394 | To satisfy the requirements of CAA section 128(a)(2) and CAA section 110(a)(2)(E)(ii) for all criteria pollutants.
Idaho Department of Environmental Quality letter dated October 18, 2013 supplementing the May 9, 2013 SIP Submittal | State-wide | 10/24/2013 | 3/3/2014, 79 FR 11711
Road Sanding Agreement, Idaho Transportation Department to Idaho Department of Environmental Quality (Voluntary Measure) | Franklin County, Logan UT-ID PM2.5 Nonattainment Area | 12/19/2012 | 3/25/2014, 79 FR 16201 | Fine Particulate Matter Control Measures; Franklin County.
Letter of Intent PM2.5 Reduction, Franklin County Road Department to Department of Environmental Quality (Voluntary Measure) | Franklin County, Logan UT-ID PM2.5 Nonattainment Area | 12/19/2012 | 3/25/2014, 79 FR 16201 | Fine Particulate Matter Control Measures; Franklin County.

Table 6 to Paragraph (e)—State Attainment, Maintenance, and Other Plans
Name of SIP provision | Applicable geographic or nonattainment area | State submittal date | EPA approval date | Explanations
Chapter I—Introduction | State-wide | 1/15/1980 | 7/28/1982, 47 FR 32530
Chapter II—Administration | State-wide | 1/15/1980 | 7/28/1982, 47 FR 32530
Chapter III—Emission Inventory | State-wide | 1/15/1980, 2/14/1980 | 7/28/1982, 47 FR 32530
Chapter IV—Air Quality Monitoring | State-wide | 1/15/1980 | 7/28/1982, 47 FR 32530
Chapter V—Source Surveillance | State-wide | 1/15/1980 | 7/28/1982, 47 FR 32530
Chapter VI—Emergency Episode Plan | State-wide | 1/15/1980 | 7/28/1982, 47 FR 32530
Chapter VIII—Nonattainment Area Plans
Chapter VIII—a | Silver Valley TSP Nonattainment Area Plan | 1/15/1980 | 7/28/1982, 47 FR 32530
Chapter VIII—b | Lewiston TSP Nonattainment Area Plan | 1/15/1980, 12/4/1980, and 2/5/1981 | 7/28/1982, 47 FR 32530
Chapter VIII—c | Transportation Control Plan for carbon monoxide, Ada County | 5/24/1984, 1/3/1985, 3/25/1985, and 6/29/1994 | 7/28/1982, 47 FR 32530, 6/6/1985, 50 FR 23810, and 12/1/1994, 59 FR 61546
Chapter VIII—d | Pocatello TSP Nonattainment Area Plan | 3/7/1980 and 2/5/1981 | 7/28/1982, 47 FR 32530
Chapter VIII—e | Soda Springs TSP Nonattainment Area Plan | 1/15/1980 | 7/28/1982, 47 FR 32530
Chapter VIII—f | Pinehurst PM-10 Nonattainment Area Plan | 4/14/1992 | 8/25/1994, 59 FR 43745
Chapter VIII—g | Northern Ada County PM10 Nonattainment Area Plan | 11/14/1991, 12/30/1994, and 7/13/1995 | 5/30/1996, 61 FR 27019
Chapter VIII—h | Sandpoint PM10 Nonattainment Area Plan | 8/16/1996 | 6/26/2002, 67 FR 43006
Chapter VIII—i | Northern Ada County CO Limited Maintenance Plan | 1/17/2002 | 10/28/2002, 67 FR 65713
Chapter VIII—j | Ada County/Boise Idaho PM-10 Maintenance Plan | 9/27/2002, 7/10/2003, and 7/21/2003 | 10/27/2003, 68 FR 61106
Chapter IX—Reserved
Chapter X—Plan for Maintenance of National Ambient Air Quality Standards for Lead | State-wide | 2/3/1984 | 6/4/1984 (EPA effective date)
Small Business Assistance Program | State-wide | 1/3/1994 | 9/19/1994, 59 FR 47801
Appendix A—Legal Authority and Other Administrative Matters | State-wide | 1/15/1980 | 7/28/1982, 47 FR 32530
Northern Ada County Air Quality Maintenance Area Second 10-year Carbon Monoxide Limited Maintenance Plan | Northern Ada County | 2/10/2011 | 8/2/2012, 77 FR 45962
Northern Ada County Carbon Monoxide Limited Maintenance Plan Revision | Northern Ada County | 12/29/2022 | 6/15/2023, 88 FR 39179 | Removal of I/M program.
Northern Ada County PM10 Second Ten-Year Maintenance Plan | Northern Ada County | 3/11/2013 | 10/2/2014, 79 FR 59435
Portneuf Valley PM10 Nonattainment Area Plan and Maintenance Plan | Portneuf Valley | 7/13/2006 | 71 FR 39574
Portneuf Valley PM10 Maintenance Plan—Revision | Portneuf Valley | 4/21/2014 | 7/17/2014, 79 FR 41647
Pinehurst PM10 Contingency Measures | Pinehurst/Shoshone County | 7/13/1995 | 10/2/2014, 79 FR 59435
Pinehurst PM10 Limited Maintenance Plan | Shoshone County; Pinehurst Expansion Area and City of Pinehurst | 9/29/2017 | 9/11/2018, 83 FR 45830
Sandpoint PM10 Nonattainment Area Limited Maintenance Plan | Bonner County: Sandpoint Area | 12/14/2011 | 4/3/2013, 78 FR 20001
Fine Particulate Matter Baseline Emissions Inventory | Franklin County, Logan UT-ID PM2.5 Nonattainment Area | 12/19/2012 | 7/18/2014, 79 FR 41904 | Fine Particulate Matter; Franklin County.
Cache Valley Fine Particulate Matter Attainment Plan | Franklin County, Logan UT-ID PM2.5 Nonattainment Area | 12/19/2012, 12/24/2014, 7/31/2018 | 1/4/2017, 82 FR 729; 8/8/2017, 82 FR 37025; 2/20/2020, 85 FR 9664
Cache Valley Fine Particulate Matter Maintenance Plan | Franklin County, Logan UT-ID PM2.5 Area | 9/13/2019 | 5/21/2021, 86 FR 27532
West Silver Valley PM2.5 Maintenance Plan | West Silver Valley, ID | 6/2/2020 | 11/16/2021, 86 FR 63315
Open Burning of Crop Residue State Implementation Plan Revision | State-wide | 5/28/2008 | 8/1/2008, 73 FR 44915
Open Burning of Crop Residue State Implementation Plan Revision | State-wide | 9/22/2017, 10/23/2017 | 6/19/2018, 83 FR 28382 | Original submission and supplemental modeling analyses.
Interstate Transport State Implementation Plan, May 11, 2010 (see comments) | State-wide | 6/28/2010 | 11/26/2010, 75 FR 72705 | For the 1997 8-hour ozone NAAQS and the 1997 PM2.5 NAAQS. See docket EPA-R10-OAR-2010-0669.
Section 110(a)(2) Infrastructure Requirements for the 1997 8-hour Ozone NAAQS | Statewide | 9/15/2008, 6/24/2010 | 7/17/2012, 77 FR 41916 | This action addresses following CAA elements or portions thereof: 110(a)(2)(A), (B), (C), (D)(ii), (E)(i), (E)(iii), (F), (G), (H), (J), (K), (L), and (M).
Section 110(a)(2) Infrastructure Requirements for the 2008 Pb NAAQS | State-wide | 2/14/2012 | 5/22/2014, 79 FR 29358 | This action addresses the following CAA elements: 110(a)(2)(A), (B), (C), (D), (E), (F), (G), (H), (J), (K), (L), and (M).
Section 110(a)(2) Infrastructure Requirements for the 1997 PM2.5 NAAQS | State-wide | 9/15/2008; 6/28/2010 | 7/14/2014, 79 FR 40662 | This action addresses the following CAA elements or portions thereof: 110(a)(2)(A), (B), (C), (D)(ii), (E), (F), (G), (H), (J), (K), (L), and (M).
Section 110(a)(2) Infrastructure Requirements for the 2006 PM2.5 NAAQS | State-wide | 6/28/2010; 8/10/2011 | 7/14/2014, 79 FR 40662 | This action addresses the following CAA elements or portions thereof: 110(a)(2)(A), (B), (C), (D)(i)(II), (D)(ii), (E), (F), (G), (H), (J), (K), (L), and (M).
Section 110(a)(2) Infrastructure Requirements for the 2008 Ozone NAAQS | State-wide | 6/28/2010 | 7/14/2014, 79 FR 40662 | This action addresses the following CAA elements or portions thereof: 110(a)(2)(A), (B), (C), (D)(i)(II), (D)(ii), (E), (F), (G), (H), (J), (K), (L), and (M).
Section 110(a)(2) Infrastructure Requirements for the 2010 NO2 NAAQS | State-wide | 9/16/2013 | 8/11/2014, 79 FR 46708 | This action addresses the following CAA elements or portions thereof: 110(a)(2)(A), (B), (C), (D)(i)(II), (D)(ii), (E), (F), (G), (H), (J), (K), (L), and (M).
Section 110(a)(2) Infrastructure Requirements for the 2010 SO2 NAAQS | State-wide | 9/16/2013 | 8/11/2014, 79 FR 46708 | This action addresses the following CAA elements or portions thereof: 110(a)(2)(A), (B), (C), (D)(i)(II), (D)(ii), (E), (F), (G), (H), (J), (K), (L), and (M).
Interstate Transport Requirements for the 2006 24-hour PM2.5 NAAQS | State-wide | 6/28/2010 | 4/17/2015, 80 FR 21181 | This action addresses the following CAA elements: 110(a)(2)(D)(i)(I).
Interstate Transport Requirements for the 2008 Ozone NAAQS | State-wide | 6/28/2010 | 12/18/2015, 80 FR 78981 | This action addresses the following CAA elements: 110(a)(2)(D)(i)(I).
Interstate Transport Requirements for the 2010 NO2 NAAQS | State-wide | 12/24/2015 | 5/5/2016, 81 FR 27017 | This action addresses the following CAA elements: 110(a)(2)(D)(i)(I).
Section 110(a)(2) Infrastructure Requirements—2012 PM2.5 NAAQS | State-wide | 12/23/2015 | 12/4/2017, 82 FR 57132 | Approves SIP for purposes of CAA sections 110(a)(2)(A), (B), (C), (D)(i)(II), (D)(ii), (E), (F), (G), (H), (J), (K), (L), and (M) for the 2012 PM2.5 NAAQS.
Interstate Transport Requirements for the 2012 PM2.5 NAAQS | State-wide | 12/23/2015 | 9/24/2018, 83 FR 48240 | This action addresses CAA 110(a)(2)(D)(i)(I).
Section 110(a)(2) Infrastructure Requirements—2015 ozone NAAQS | State-wide | 9/27/2018 | 9/16/2020, 85 FR 57723 | Approves SIP for purposes of CAA sections 110(a)(2)(A), (B), (C), (D)(i)(II), (D)(ii), (E), (F), (G), (H), (J), (K), (L), and (M) for the 2015 ozone NAAQS.
Interstate Transport Requirements for the 2015 Ozone NAAQS | State-wide | 9/26/2018 | 10/16/2020, 85 FR 65722 | This action addresses CAA 110(a)(2)(D)(i)(I).
Interstate Transport Requirements for the 2010 Sulfur Dioxide NAAQS | State-wide | 12/24/2015 | 4/9/2021, 86 FR 18457 | This action addresses CAA 110(a)(2)(D)(i)(I).
Regional Haze SIP Revision | State-wide | 10/25/2010 | 6/22/2011, 76 FR 36329 | The portion of the Regional Haze SIP revision relating to BART, the calculation of baseline and natural conditions, and the statewide inventory of emissions of pollutants that are reasonably anticipated to cause or contribute to visibility impairment in any mandatory Class I Federal Area.
Regional Haze SIP Revision | State-wide | 10/25/2010 | 11/8/2012, 77 FR 66929 | The portion of the Regional Haze SIP relating to the reasonable progress goals, long term strategy, monitoring strategy, consultation with states and Federal Land Managers, periodic SIP revisions, and 5-year progress reports.
Regional Haze SIP Revision | State-wide | 6/29/2012 | 4/28/2014, 79 FR 23273 | The portion of the Regional Haze SIP relating to BART for the TASCO, Nampa facility.
Regional Haze 5-Year Progress Report | State-wide | 6/28/2016 | 7/15/2019, 84 FR 33697

[FR Doc. 2024-26506 Filed 11-15-24; 8:45 am]

BILLING CODE 6560-50-P